COMMISSION ON CIVIL RIGHTS

Agenda and Notice of Public Meeting of the New York Advisory Committee; Correction

AGENCY: Commission on Civil Rights.

ACTION: Notice; correction.

SUMMARY: The Commission on Civil Rights published a notice in the Federal Register of August 2, 2013, concerning a meeting of the New York Advisory Committee. The notice contained incorrect dates.

FOR FURTHER INFORMATION CONTACT: Ivy Davis, (202) 376-7533.

Correction

In the Federal Register of August 2, 2013, in FR Doc. 2013-18587, on page 46921, correct the first paragraph to read:

Notice is hereby given, pursuant to the provisions of the rules and regulations of the U.S. Commission on Civil Rights (Commission), and the Federal Advisory Committee Act (FACA), that a planning meeting of the New York Advisory Committee to the Commission will convene at 12:00 p.m. (ET) on Wednesday, August 14, 2013, at the Law Offices of Sullivan and Cromwell, 535 Madison Avenue, New York, New York. The purpose of the meeting is for orientation and project planning.

Dated: August 9, 2013.
David Mussatt,
Acting Chief, Regional Programs Coordination Unit.

[FR Doc. 2013-19746 Filed 8-13-13; 8:45 am]

BILLING CODE 6335-01-P